DEPARTMENT OF THE INTERIOR

Bureau of Land Management

[WO-220-1050-EE-01-24 1A]

OMB Approval Number 1004-0182; Information Collection Submitted to the Office of Management and Budget Under the Paperwork Reduction Act

The Bureau of Land Management (BLM) has submitted the proposed collection of information listed below to the Office of Management and Budget (OMB) for approval under provisions of the Paperwork Reduction Act (44 U.S.C. 3501 et seq.). On December 18, 2000, the BLM published a notice in the Federal Register (65 FR 79117) requesting comments on this proposed collection. The comment period ended on February 16, 2001. The BLM received no comments from the public in response to that notice. You may obtain copies of the proposed collection of information and related forms and explanatory material by contacting the BLM Information Clearance Officer at the telephone number listed below.

The OMB is required to respond to this request within 60 days but may respond after 30 days. For maximum consideration your comments and suggestions on the requirement should be made within 30 days directly to the Office of Management and Budget, Interior Department Desk Officer, (1004-0182), Office of Information and Regulatory Affairs, Washington, DC 20503. Please provide a copy of your comments to the Bureau Information Clearance Officer (WO-630), 1849 C St., NW., Mail Stop 401LS, Washington, DC 20240.

Nature of Comments: We specifically request your comments on the following:

1. Whether the collection of information is necessary for the proper functioning of the BLM, including whether the information will have practical utility;

2. The accuracy of our estimates of the information collection burden, including the validity of the methodology and assumptions we use;

3. Ways to enhance the quality, utility and clarity of the information collected; and

4. Ways to minimize the information collection burden on those who are to respond, including the use of appropriate automated, electronic, mechanical, or other technological collection techniques or forms of information technology.

Title: Grazing Lease or Permit Application; Reindeer Grazing Permit (43 CFR 4300).

OMB Approval Number: 1004-0182.

Bureau Form Number: Form AK 4201-1, Grazing Lease or Permit Application and Form AK 4132-2, Reindeer Grazing Permit.

Abstract: BLM collects this information from Alaska Native permittees under its Reindeer Grazing Program to assess the compatibility of grazing on the land with multiple-use objectives for the area.

Frequency: Once.

Description of Respondents: Alaska Natives, groups of Alaska Natives, or associations/corporations of Alaska Natives who want to graze reindeers on public lands in Alaska that are vacant and unappropriated.

Estimated Completion Time: 1 hour and 15 minutes.

Annual Responses: 6.

Filing Fee Response: $10.

Annual Burden Hours: 7.

Bureau Clearance Officer: Michael Schwartz, (202) 452-5033.

Dated: June 15, 2001.
Michael H. Schwartz,
BLM Information Collection Clearance Officer.

[FR Doc. 01-20025 Filed 8-8-01; 8:45 am]

BILLING CODE 4310-84-M